FEDERAL MARITIME COMMISSION

Ocean Transportation Intermediary License Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR part 515). Notice is also hereby given of the filing of applications to amend an existing OTI license or the Qualifying Individual (QI) for a license.

Interested persons may contact the Office of Transportation Intermediaries, Federal Maritime Commission, Washington, DC 20573, by telephone at (202) 523-5843 or by e-mail at OTI@fmc.gov.

Ace Maritime, Inc. (NVO), 5201 Lincoln Avenue, #233, Cypress, CA 90630, Officers: Cindy J. Lee, Secretary/CFO, (Qualifying Individual), Kathlyn Park, CEO, Application Type: New NVO License.

Advanced Maritime Transport, Inc. (NVO & OFF), 1704 Rankin Road, Suite 110, Houston, TX 77073, Officers: Sandy Lance, Secretary, (Qualifying Individual), Alain Vedrine, President/Vice President, Application Type: QI Change.

Alaska Seavan, Inc. dba Mitchell Moving & Storage (OFF), 18800 Southcenter Parkway, Seattle, WA 98188, Officers: Charles K. Behrens, President, (Qualifying Individual), Todd L. Halverson, CEO, Application Type: New OFF License.

Annam Cargo, Inc. (NVO & OFF), 1340 Tully Road, # 308, San Jose, CA 95122, Officers: Tuan S. Huynh, President, (Qualifying Individual), Tam M. Nguyen, Secretary/CFO, Application Type: New NVO & OFF License.

Atlas Logistics LLC (NVO & OFF), 2801 NW 74th Avenue, Suite 171, Miami, FL 33122, Officer: Louissana Dappo, MGRM, (Qualifying Individual), Application Type: New NVO & OFF License.

Bulk Cargo Services & Logistics Inc. (OFF), 15400 N.E. 103rd Drive, Vancouver, WA 98682, Officers: Darrell L. Bryant, President, (Qualifying Individual), Bruce R. Skerry, Vice President, Application Type: New OFF License.

CargoLogic USA LLC (NVO & OFF), 182-16 149th Road, #212, Springfield Gardens, NY 11413, Officers: Matvey Gurfinkel, Vice President, (Qualifying Individual), Alex Epshteyn, President/Secretary, Application Type: New NVO & OFF License.

D. Kratt International, Inc. (OFF), 25 West Higgins Road, #140-150, Hoffmann Estates, IL 60169, Officers: Rebecca M. Kennedy, Vice President, (Qualifying Individual), David P. Kratt, President, Application Type: QI Change.

Direct Freight Services LLC (NVO), 1810 NW 51st Place, Hanger 40A, Ft. Lauderdale, FL 33309, Officers: Neil T. Marshall, Member/Chief Executive Manager, (Qualifying Individual), Stina Storr, Member/Managing Member, Application Type: New NVO License.

Empire Consolidators, Inc. (NVO & OFF), 60 Terrehans Lane, Syosset, NY 11791, Officer: Vivian C. Chan, President/VP/Secretary/Treasurer, (Qualifying Individual), Application Type: New NVO and OFF License.

Equipsa Inc. (OFF), 2105 NW 102 Avenue, Miami, FL 33172, Officers: Eduardo del Pozo, General Manager, (Qualifying Individual), Arthur S. Gelfand, President, Application Type: QI Change.

Equipsa N.V.O.C.C. Inc. (NVO), 2105 NW 102 Avenue, Miami, FL 33172, Officers: Eduardo del Pozo, General Manager, (Qualifying Individual), Arthur S. Gelfand, President, Application Type: QI Change.

Foothills Logistics, Inc. dba Foothills Logistics of Florida, Inc. (NVO), 2045 John Crosland Jr. Way, Charlotte, NC 28208, Officers: William A. Pottow, Vice President, (Qualifying Individual), Janine A. Antonio, President, Application Type: License Transfer.

Green World Cargo, LLC (NVO), 150-30 132nd Avenue, #302, Jamaica, NY 11434, Officers: Harjinder P. Singh, President/Chief Executive Manager, (Qualifying Individual), Salvatore J. Stile, II, Manager, Application Type: New NVO License.

Guardian Marine LLC (NVO), 600 Glenrose Drive, Allen, TX 75013, Officers: Don F. Mcnally, Managing Member, (Qualifying Individual), Don A. Mcnally, Managing Member, Application Type: New NVO License.

International Bonded Couriers, Inc. (NVO), 8401 NW 17th Street, Miami, FL 33126, Officers: Rocio Liriano, Vice President of Logistics, (Qualifying Individual), Seddik Si Hassen, President, Application Type: New NVO License.

IWIN Group Corp. (NVO), 1055 E. Colorado Blvd., Suite 5113, Pasadena, CA 91106, Officers: Honggang Liu, Secretary/CFO/Treasurer, (Qualifying Individual), Yaoyao (Jessie) Guo, CEO/President, Application Type: QI Change.

Kamino International Transport, Inc. (NVO & OFF), 145th Avenue & Hook Creek Blvd., Valley Stream, NY 11581, Officers: Jeffrey Hudson, Vice President of Operations, (Qualifying Individual), Robert Snelson, Director/CEO, Application Type: QI Change.

M E Dey Cargo Corporation dba Orient Grace Container Lines(NVO & OFF), 510 Plaza Drive, #1210, College Park, GA 30349, Officers: Joshua Wolf, President, (Qualifying Individual), Robert Gardenier, Director, Application Type: New NVO & OFF License.

Newtrans Overseas, Inc. (NVO & OFF), 8939 S. Sepulveda Blvd., #225, Los Angeles, CA 90045, Officers: Walter Rozario, President/CEO, (Qualifying Individual), Shoeba Rozario, Secretary, Application Type: New NVO & OFF License.

NUCO Logistics, Inc. (NVO & OFF), 500 S. Kraemer Blvd., Suite 395, Brea, CA 92821, Officers: Noushin Shamsili, President, (Qualifying Individual), Farid Tahvildari, Vice President/Treasurer, Application Type: QI Change.

Sicomex International Corp (NVO & OFF), 8458 NW 70th Street, Miami, FL 33166, Officers: Angelica Boscan, Treasurer, (Qualifying Individual), Tayme Cabeza, President, Application Type: New NVO & OFF License.

Sisto International Shipping, Inc. (OFF), 10255 NW 116 Way, #3, Medley, FL 33178, Officers: Raymond Fleites, Director/President/Secretary/Treasurer, (Qualifying Individual), Tracy Sisto, Vice President, Application Type: QI Change.

Soo Hoo Customs Broker Inc. dba Soo Hoo Shipping (NVO & OFF), 6440 Corvette Street, Commerce, CA 90040, Officer: Brian S. Soo Hoo, President, (Qualifying Individual), Application Type: Add NVO Service,

Sun Fine Systems, Inc. dba Marquis Logistics (NVO & OFF), 13460 Brooks Drive, Baldwin Park, CA 91706, Officers: David Sun, Secretary, (Qualifying Individual), Kevin Tang, Director/President/CEO/Treasurer/CFO, Application Type: Add OFF Service.

TSJ Logistics (NVO & OFF), 249 W. Fernfield Drive, Monterey Park, CA 91754, Officer: Tony Chen, President/VP/Secretary/Treasurer, (Qualifying Individual), Application Type: New NVO & OFF License.

TM Express, LLC (NVO), 16925 Colchester Way, Hacienda Heights, CA 91745, Officer: Merlinda V. Tan, Member, (Qualifying Individual), Application Type: New NVO License.

Transitainer, LLC (NVO & OFF), 100 W. Broadway, Suite 350, Long Beach, CA 90802, Officers: Rosemarie (Rosie) Dagley, Vice President, (Qualifying Individual), Paul Vassie, President, Application Type: New NVO & OFF License.

UA Freight Services LLC (NVO), 20559 S. Vermont Street, Suite 2, Torrance, CA 90502, Officer: Umamart Angsirilawan, Manager, (Qualifying Individual), Application Type: New NVO License.

USKO Shipping Inc. (NVO & OFF), 520 Houston Street, West Sacramento, CA 95691, Officers: Anna A. Skots, Vice President/Director, (Qualifying Individual), Vitaliy Z. Skots, President/Treasurer/Director, Application Type: New NVO & OFF License.

Valueway Global Logistics Inc. (NVO), 104 S. Central Avenue, Room 2, Valley Stream, NY 11580, Officers: Yan Yan (Sherry) Zhang, Vice President, (Qualifying Individual), Qian Xie, President/Secretary/Treasurer, Application Type: QI Change.

Welco International Services, Inc. (NVO & OFF), 3020 West Lobo Ridge, New Albany, IN 47150, Officer: Christopher M. Welch, President/Secretary, (Qualifying Individual), Application Type: Add NVO Service.

Dated: July 19, 2011.
Karen V. Gregory,
Secretary.

[FR Doc. 2011-18649 Filed 7-22-11; 8:45 am]

BILLING CODE 6730-01-P